DEPARTMENT OF LABOR

Employment and Training Administration

[TA-W-64,038]

Phoenix Leather, Inc., Brockton, MA; Notice of Termination of Investigation

Pursuant to Section 221 of the Trade Act of 1974, as amended, an investigation was initiated on September 12, 2008, in response to a worker petition filed by former workers of Phoenix Leather, Inc., Brockton, Massachusetts.

The petition was only filed by two workers, which does not meet the requirement of three workers necessary to file a petition. As a result, the petition regarding the investigation has been deemed invalid. Consequently, further investigation in this case would serve no purpose, and the investigation has been terminated.

Signed at Washington, DC, this 25th day of September 2008.
Richard Church,
Certifying Officer, Division of Trade Adjustment Assistance.

[FR Doc. E8-23303 Filed 10-2-08; 8:45 am]

BILLING CODE 4510-FN-P